DEPARTMENT OF AGRICULTURE

Forest Service

Roadless Area Conservation National Advisory Committee

AGENCY: Forest Service, USDA.

ACTION: Notice of meeting.

SUMMARY: The Roadless Area Conservation National Advisory Committee (Committee) will meet in Washington, DC. The purpose of this meeting is primarily administrative in nature to review the Committee's amended charter and discuss future Committee mission and scope. Pursuant to its amended charter, the Committee may also provide advice and recommendations to the Secretary on petitions received from States regarding roadless area management received by the Secretary, or his designee, under the authority of the Administrative Procedure Act, 5 U.S.C. 553(e) and 7 CFR 1.28.

DATES: The meeting will be held October 18-19, 2006 from 8 a.m. to 5 p.m each day.

ADDRESSES: The meeting will be held at the Forest Service's Yates Building at 201 14th Street, SW., Washington, DC, 20250.

FOR FURTHER INFORMATION CONTACT: Bill Supulski, National Roadless Coordinator, at bsupulski@fs.fed.us or (202) 205-0948, USDA Forest Service, 1400 Independence Avenue, SW., Mailstop 1104, Washington, DC 20250.

Individuals who use tele­com­mu­ni­ca­tion devices for the deaf (TDD) may call the Federal Information Relay Service (FIRS) at 1-800-877-8339 between 8 a.m. and 8 p.m., Eastern Standard Time, Monday through Friday.

SUPPLEMENTARY INFORMATION: The meeting is open to the public and interested parties are invited to attend; building security requires you to provide your name to the National Roadless Coordinator (contact information listed above) by October 10, 2006. You will need photo identification to enter the building.

While meeting discussion is limited to Forest Service staff and Committee members, the public will be allowed to offer written and oral comments for the Committee's consideration. Attendees wishing to comment orally will be allotted a specific amount of time to speak during a public comment period at the end of the first day's agenda. To offer oral comment, please contact the National Roadless Coordinator at the contact number above.

Dated: September 29, 2006.
Gloria Manning,
Associate Deputy Chief, National Forest System.

[FR Doc. E6-16374 Filed 10-3-06; 8:45 am]

BILLING CODE 3410-11-P